DEPARTMENT OF COMMERCE

International Trade Administration

A-570-827

Certain Cased Pencils from the People's Republic of China; Notice of Final Results of Expedited Sunset Review of Antidumping Duty Order

AGENCY: Import Administration, International Trade Administration, Department of Commerce.

EFFECTIVE DATE: November 7, 2005.

FOR FURTHER INFORMATION CONTACT: Maureen Flannery at (202) 482-3020, AD/CVD Operations, Office 8, Import Administration, International Trade Administration, U.S. Department of Commerce, 14th Street and Constitution Avenue, NW, Washington, DC 20230.

SUMMARY: On July 1, 2005, the Department of Commerce (the Department) initiated a sunset review of the antidumping duty order on Certain Cased Pencils from the People's Republic of China (PRC). On the basis of a Notice of Intent to Participate, and an adequate substantive response filed on behalf of domestic interested parties, as well as a lack of response from respondent interested parties, the Department conducted an expedited (120-day) sunset review. As a result of the sunset review, the Department finds that revocation of the antidumping duty order would be likely to lead to continuation or recurrence of dumping. The dumping margins are identified in the Final Results of Review section of this notice.

SUPPLEMENTARY INFORMATION:

Background:

On July 1, 2005, the Department published the notice of initiation of the sunset review of the antidumping duty order on Certain Cased Pencils from the PRC pursuant to section 751(c) of the Tariff Act of 1930, as amended (the Act). See Initiation of Five-year (Sunset) Reviews, 70 FR 38101 (July 1, 2005) (Initiation Notice). On July 14, 2005, the Department received a Notice of Intent to Participate from domestic interested parties, Sanford Corp.; General Pencil Co., Inc.; Rose Moon Inc.; Tennessee Pencil Co.; and Musgrave Pencil Co., within the deadline specified in section 315.218(d)(1)(i) of the Department's regulations. Sanford Corp.; General Pencil Co.; Inc.; Rose Moon Inc.; Tennessee Pencil Co.; and Musgrave Pencil Co. claimed interested party status under section 771(9)(C) of the Act, as manufacturers of cased pencils in the United States. On August 1, 2005, the Department received a complete substantive response from domestic interested parties within the deadline specified in section 351.218(d)(3)(i) of the Department's regulations. We did not receive responses from any respondent interested parties to this proceeding. As a result, pursuant to section 751(c)(3)(B) of the Act and section 351.218(e)(1)(ii)(C)(2) of the Department's regulations, the Department determined to conduct an expedited review of the order.

Scope of the Order:

Imports covered by this order are shipments of certain cased pencils of any shape or dimension (except as described below) which are writing and/or drawing instruments that feature cores of graphite or other materials, encased in wood and/or man-made materials, whether or not decorated and whether or not tipped (e.g., with erasers, etc.) in any fashion, and either sharpened or unsharpened. The pencils subject to the order are classified under subheading 9609.10.00 of the Harmonized Tariff Schedule of the United States (HTSUS). Specifically excluded from the scope of the order are mechanical pencils, cosmetic pencils, pens, non-cased crayons (wax), pastels, charcoals, chalks, and pencils produced under U.S. patent number 6,217,242 from paper infused with scents by the means covered in the above-referenced patent, thereby having odors distinct from those that may emanate from pencils lacking the scent infusion. Also excluded from the scope of the order are pencils with all of the following physical characteristics: 1) length: 13.5 or more inches; 2) sheath diameter: not less than one-and-one quarter inches at any point (before sharpening); and 3) core length: not more than 15 percent of the length of the pencil. Although the HTSUS subheading is provided for convenience and customs purposes, the written description of the scope of the order is dispositive.

On June 3, 2005, the Department determined that certain Fiskars Brands, Inc.'s compasses are not included in the scope of the order. See Notice of Scope Rulings, 70 FR 55110 (September 29, 2005). The Department determined on February 18, 2005, that Rich Frog Industries Inc.'s certain decorated wooden gift pencils are within the scope of the order, and on March 5, 2005, in response to Target Corporation, that RoseArt Clip 'N Color is excluded from the scope of the order. See Notice of Scope Rulings, 70 FR 41347 (July 19, 2005). In response to a request by Barthco Trade Consultants, on May 22, 2003, the Department determined that twist crayons were outside the scope of the order. On September 29, 2004, in response to Target Corporation, the Department determined that the “Hello Kitty Fashion Totes” were outside the scope of the order. On September 29, 2004, in response to Target Corporation, the Department determined that “Hello Kitty Memory Maker” was outside the scope of the order and that “Crayola the Wave” was outside the scope of the order. See Notice of Scope Rulings, 70 FR 24533 (May 10, 2005). On February 9, 1998, in response to Creative Designs International, Ltd., the Department determined that “Naturally Pretty,” a young girl's 10 piece dress-up vanity set, including two 3-inch pencils, was outside the scope of the order. See Notice of Scope Rulings, 63 FR 29700 (June 1, 1998). On September 15, 1997, the Department determined in response to Nadel Trading Corporation that a plastic “quasi-mechanical” pencil known as the Bensia pencil was outside the scope of the order. See Notice of Scope Rulings, 62 FR 62288 (November 21, 1997).

Analysis of Comments Received:

All issues raised in these reviews are addressed in the “Issues and Decision Memorandum” (Decision Memorandum) from Stephen J. Claeys, Deputy Assistant Secretary for Import Administration, to Joseph A. Spetrini, Acting Assistant Secretary for Import Administration, dated October 31, 2005, which is hereby adopted by this notice. The issues discussed in the Decision Memorandum include the likelihood of continuation or recurrence of dumping and the magnitude of the margins likely to prevail if the order were revoked. Parties can find a complete discussion of all issues raised in this review and the corresponding recommendations in this public memorandum which is on file in room B-099 of the main Commerce building.

In addition, a complete version of the Decision Memorandum can be accessed directly on the Web at http://ia.ita.doc.gov. The paper copy and electronic version of the Decision Memorandum are identical in content.

Final Results of Review:

We determine that revocation of the antidumping duty orders on cased pencils from the PRC would be likely to lead to continuation or recurrence of dumping at the following weighted-average percentage margins:

Manufacturers/Exporters/Producers | Weighted-Average Margin (percent)
China First Pencil Co., Ltd./Three Star Stationery Industry Co.¹ | 8.60
Shanghai Lansheng Corp. | 19.36
Shanghai Foreign Trade Corp. | 11.15
Guangdong Provincial Stationery & Sporting Goods Import & Export Corp.² | 53.65
PRC-Wide Rate | 53.65
¹ The Department determined that China First Pencil Co. Ltd. and Three Star Stationery Industry Co. (Three Star) should be treated as a single entity in the December 1, 1999 through November 30, 2000 review. See Certain Cased Pencils from the People's Republic of China; Final Results and Partial Rescission of Antidumping Duty Administrative Review, 67 FR 48612 (July 25, 2002) (1999-2000 Final Results) and amended final results at 67 FR 59049 (September 19, 2002).
² The Department originally excluded from the order exports made by Guangdong Provincial Stationery & Sporting Goods Import & Export Corp. (Guangdong) and produced by Three Star. However, the Department determined in the 1999-2000 review that the Guangdong/Three Star sales chain was no longer excluded from the order, and that all merchandise exported by Guangdong was subject to the cash deposit requirements at the PRC-wide rate. See 1999-2000 Final Results.

This notice also serves as the only reminder to parties subject to administrative protective orders (APO) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing the results and notice in accordance with sections 751(c), 752, and 777(i)(1) of the Act.

Dated: October 31, 2005.
Joseph A. Spetrini,
Acting Assistant Secretary for Import Administration.

[FR Doc. 05-22138 Filed 11-4-05; 8:45 am]

BILLING CODE 3510-DS-S